DEPARTMENT OF COMMERCE

National Oceanic and Atmospheric Administration

[RTID 0648-XD645]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of the Wreckfish Sub-Committee.

DATES: The Wreckfish Sub-Committee meeting will be held via webinar on February 8, 2024. The meeting will be held from 9 a.m. until 12:30 p.m., EDT.

ADDRESSES:

Meeting address: The meeting will be held via webinar. The webinar is open to members of the public. Registration is required. Webinar registration, an online public comment form, and briefing book materials will be available two weeks prior to the meeting at: https://safmc.net/events/feb-2024-wreckfish-sub-committee-meeting/.

Council address: South Atlantic Fishery Management Council, 4055 Faber Place Drive, Suite 201, N Charleston, SC 29405.

FOR FURTHER INFORMATION CONTACT: Christina Wiegand, Fishery Social Scientists, SAFMC; phone: (843) 571-4366 or toll free: (866) SAFMC-10; fax: (843) 769-4520; email: christina.wiegand@safmc.net.

SUPPLEMENTARY INFORMATION: The Wreckfish Sub-Committee will discuss Amendment 48 to the Snapper Grouper Fishery Management Plan, select preferred alternatives, and consider approval for public hearings. Current actions under consideration in Amendment 48 include: sector allocations, electronic reporting, fishing season, Individual Transferable Quota (ITQ) participation and eligibility requirements, fishery monitoring requirements, and cost recovery.

Special Accommodations

The meeting is physically accessible to people with disabilities. Requests for auxiliary aid should be directed to the Council office (see ADDRESSES) 5 days prior to the meeting.

Note: The times and sequence specified in this agenda are subject to change.

Authority: 16 U.S.C. 1801 et seq.

Dated: January 18, 2023.
Rey Israel Marquez,
Acting Deputy Director, Office of Sustainable Fisheries, National Marine Fisheries Service.

[FR Doc. 2024-01244 Filed 1-22-24; 8:45 am]

BILLING CODE 3510-22-P